DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground Modified | Communities affected
Guilford County, North Carolina and Incorporated Areas
Docket Nos.: FEMA-D-7636, FEMA-D-7672 and FEMA-B-7465
Back Creek | At the Alamance/Guilford County boundary | +579 | Guilford County (Unincorporated Areas).
| Approximately 150 feet upstream of SR 100 | +644
Tributary 2 | At the confluence with Back Creek | +589 | Guilford County (Unincorporated Areas).
| At the Alamance/Guilford County boundary | +635
Tributary (Stream No. 90) | At the confluence with Back Creek | +595 | Guilford County (Unincorporated Areas).
| Approximately 0.5 mile upstream of Sanitary Landfill Road | +638
Beaver Creek (Stream No. 83) | At the Alamance/Guilford County boundary | +569 | Guilford County (Unincorporated Areas).
| Approximately 0.8 mile upstream of Mount Hope Church Road | +668
Beaver Creek Tributary | At the confluence with Beaver Creek | +592 | Guilford County (Unincorporated Areas).
| Approximately 0.7 mile upstream of Brick Church Road | +631
Benaja Creek (Stream No. 48) | Approximately 1.2 miles upstream of Railroad Crossing | +712 | Guilford County (Unincorporated Areas).
| Approximately 1.4 miles upstream of Railroad Crossing | +718
Big Alamance Creek (Stream No. 68) | Approximately 1,000 feet upstream of the confluence with Big Alamance Creek Tributary 1 | +686 | Guilford County (Unincorporated Areas), Town of Pleasant Garden.
| Approximately 1.3 miles upstream of Minder Road | +757
Big Alamance Creek Tributary 3 | At the confluence with Big Alamance Creek | +589 | Guilford County (Unincorporated Areas).
| Approximately 325 feet upstream of Thacker Dairy Road | +613
Tributary 4 | Approximately 100 feet upstream of the confluence with Big Alamance Creek | +592 | Guilford County (Unincorporated Areas).
| Approximately 0.4 mile upstream of Alamance Church Road | +672
Tributary 8 | Approximately 900 feet upstream of the confluence with Big Alamance Creek | +659 | Guilford County (Unincorporated Areas), Town of Pleasant Garden.
| Approximately 100 feet upstream of Hagon Stone Park Road | +712
Tributary 9 | At the confluence with Big Alamance Creek Tributary 8 | +663 | Guilford County (Unincorporated Areas).
| Approximately 0.8 mile upstream of Fieldview Road | +713
Boulding Branch | Approximately 50 feet upstream of Montileu Avenue | +854 | City of High Point.
| At North Centennial Street | +888
Tributary 1 | Approximately 225 feet upstream of the confluence with Boulding Branch | +775 | City of High Point.
| Approximately 1,350 feet upstream of Hickory Lane | +844
Tributary 2 | Approximately 200 feet downstream of Barcliff Drive | +794 | City of High Point.
| Approximately 350 feet upstream of Waynick Street | +838
Tributary 3 | Approximately 400 feet upstream of the confluence with Boulding Branch | +798 | City of High Point.
| Approximately 1,000 feet upstream of McGuinn Drive | +849
Brush Creek (Stream No. 54) | At the downstream side of Brass Eagle Loop | +778 | Guilford County (Unincorporated Areas), City of Greensboro.
| Approximately 1,550 feet upstream of Airport Center Drive | +879
Bull Run | At the confluence with Deep River (Stream No. 1) | +704 | Guilford County (Unincorporated Areas), City of Greensboro, Town of Jamestown.
| Approximately 1,000 feet upstream of Ruffin Road | +845
Bull Run (Stream No. 28) | At the confluence with Deep River(Stream No. 1) | +704 | Guilford County (Unincorporated Areas), City of Greensboro, Town of Jamestown.
| Approximately 1,000 feet upstream of Ruffin Road | +845
Bull Run Tributary 1 (Stream No. 29) | At the confluence with Bull Run | +778 | City of Greensboro.
| Approximately 330 feet upstream of Old Fox Trail | +808
Chocolate Creek | At the confluence with North Prong Stinking Quarter Creek | +616 | Guilford County (Unincorporated Areas).
| Approximately 3.0 miles upstream of Alamance Church Road | +687
Copper Branch | Approximately 1,150 feet upstream of the confluence with Deep River (Stream No. 1) | +700 | Guilford County (Unincorporated Areas), City of High Point.
| Approximately 600 feet upstream of I-85 | +822
Deep River Tributary 3 (Stream No. A) | Approximately 50 feet upstream of Edinburgh Drive | +762 | City of High Point.
| Approximately 0.7 mile upstream of Edinburgh Drive | +806
Deep River Tributary 30 | Approximately 500 feet upstream of the confluence with West Fork Deep River (Stream No. 2) | +762 | City of High Point.
| Approximately 0.5 mile upstream of the confluence with West Fork Deep River (Stream No. 2) | +800
Tributary 31 | Approximately 750 feet upstream of the confluence with West Fork Deep River (Stream No. 2) | +778 | City of High Point.
| Approximately 650 feet upstream of Arden Place | +863
East Belews Creek Tributary 1 | At the Guilford/Forsyth County boundary | +733 | Town of Stokesdale.
| Approximately 1.2 miles upstream of Coldwater Road | +786
Tributary 1A | At the Guilford/Forsyth County boundary | +733 | Town of Stokesdale.
| Approximately 680 feet upstream of Coldwater Road | +758
Tributary 2 | At the Guilford/Forsyth County boundary | +750 | Guilford County (Unincorporated Areas).
| Approximately 0.7 mile upstream of Water Oak Road | +776
East Fork Deep River (Stream No. 23) | Approximately 100 feet upstream of Regency Drive | +799 | City of Greensboro, City of High Point, Guilford County (Unincorporated Areas).
| Approximately 1,275 feet upstream of Industrial Village | +870
East Fork Deep River Tributary 1 | At the confluence with East Deep River | +842 | City of Greensboro.
| Approximately 0.4 mile upstream of U.S. Route 421 | +860
Tributary 2 | Approximately 500 feet upstream of the confluence with East Fork Deep River | +790 | Guilford County (Unincorporated Areas), City of Greensboro, City of High Point.
| Approximately 1,300 feet upstream of I-40 | +866
Haw River Tributary 15 | Approximately 0.5 mile upstream of the confluence with Haw River | +635 | Guilford County (Unincorporated Areas).
| At the Alamance/Guilford County boundary | +665
Tributary 19 | Approximately 1.0 mile upstream of the confluence with Haw River | +844 | Guilford County (Unincorporated Areas).
| Approximately 1.0 mile upstream of the confluence with Haw River | +901
Hiatt Branch | Approximately 1,650 feet downstream of U.S. 311 | +823 | City of High Point.
| Approximately 0.5 mile upstream of U.S. 311 | +870
Horney Branch | Approximately 100 feet upstream of Old Mill Road | +839 | City of High Point.
| Approximately 500 feet upstream of Viking Drive | +864
Horsepen Creek (Stream No. 55) | Approximately 120 feet downstream of railroad | +742 | Guilford County (Unincorporated Areas), City of Greensboro.
| Approximately 200 feet downstream of Distribution Drive | +835
Tributary 1 (Stream No. 57) | At the confluence with Horsepen Creek | +757 | City of Greensboro.
| Approximately 1,375 feet upstream of Derbyshire Drive | +833
Tributary 2 (Stream No. 56) | At the confluence with Horsepen Creek | +761 | City of Greensboro.
| Approximately 1,800 feet upstream of Hobbs Road | +853
Tributary A | At the confluence with Horsepen Creek Tributary 2 | +777 | City of Greensboro.
| Approximately 300 feet upstream of Friendly Acres Drive | +811
Tributary B | At the confluence with Horsepen Creek Tributary 2 | +778 | City of Greensboro.
| Approximately 1.1 miles upstream of Hobbs Road | +861
Tributary C | At the confluence with Horsepen Creek | +758 | Guilford County (Unincorporated Areas), City of Greensboro.
| Approximately 2,275 feet upstream of Four Farms Road | +784
Tributary D | At the confluence with Horsepen Creek | +772 | Guilford County (Unincorporated Areas), City of Greensboro.
| Approximately 0.8 mile upstream of Chance Road | +831
Tributary E | At the confluence with Horsepen Creek | +775 | City of Greensboro.
| Approximately 150 feet upstream of Green Meadow Drive | +826
Tributary F | At the confluence with Horsepen Creek | +785 | Guilford County (Unincorporated Areas), City of Greensboro.
| Approximately 400 feet upstream of Joseph Bryan Boulevard | +822
Tributary G | At the confluence with Horsepen Creek | +797 | Guilford County (Unincorporated Areas), City of Greensboro.
| Approximately 0.6 mile upstream of the confluence with Horsepen Creek | +828
Tributary H | At the confluence with Horsepen Creek | +796 | City of Greensboro.
| Approximately 0.4 mile upstream of Ballinger Road | +806
Tributary I | At the confluence with Horsepen Creek Tributary H | +806 | City of Greensboro.
| Approximately 100 feet upstream of Friendway Road | +861
Tributary J | At the confluence with Horsepen Creek Tributary H | +806 | City of Greensboro.
| Approximately 700 feet upstream of Friendly Avenue | +864
Tributary K | At the confluence with Horsepen Creek | +822 | City of Greensboro.
| Approximately 250 feet upstream of North Chimney Rock Road | +888
Jordan Branch | At the confluence with North Buffalo Creek | +704 | Guilford County (Unincorporated Areas), City of Greensboro.
| Approximately 50 feet downstream of Railroad | +769
Kennedy Mill Creek | At the Guilford/Davidson County boundary | +801 | City of High Point.
| Approximately 900 feet upstream of Hodgin Street | +848
Tributary 1 | At the Guilford/Davidson County boundary | +815 | City of High Point.
| Approximately 0.3 mile upstream of Woodbine Street | +903
Tributary 1A | At the confluence of Kennedy Mill Creek Tributary 1 | +816 | City of High Point.
| Approximately 1,400 feet upstream of the confluence with Kennedy Mill Creek Tributary 1 | +839
Kings Creek | At the Guilford/Forsyth County boundary | +724 | Guilford County (Unincorporated Areas), Town of Stokesdale.
| Approximately 1.4 miles upstream of Anthony Road | +815
Knight Road Branch | Approximately 1,700 feet upstream of the confluence with West Fork Deep River (Stream No. 2) | +819 | Guilford County (Unincorporated Areas), City of High Point.
| At the Guilford/Forsyth County boundary | +838
Lake Hamilton | At the confluence with North Buffalo Creek | +785 | City of Greensboro.
| Approximately 70 feet upstream of East Kemp Road | +815
Long Branch (Stream No. 25) | Approximately 1.6 miles upstream of West Wendover Avenue | +837 | Guilford County (Unincorporated Areas), City of Greensboro.
| Approximately 550 feet upstream of I-40 | +863
Mears Fork Creek | At Strader Road | +790 | City of Summerfield.
| Approximately 0.7 mile upstream of Strader Road | +805
Mile Branch Tributary 1 | Approximately 700 feet upstream of the confluence with Mile Branch | +729 | Guilford County (Unincorporated Areas), City of High Point.
| Approximately 0.7 mile upstream of the confluence with Mile Branch | +780
Mile Run Creek | At the confluence with South Buffalo Creek | +729 | Guilford County (Unincorporated Areas), City of Greensboro.
| Approximately 150 feet downstream of Orchard Street | +767
Muddy Creek | At the confluence with North Buffalo Creek | +713 | Guilford County (Unincorporated Areas), City of Greensboro.
| Approximately 850 feet upstream of North Dudley Street | +777
Muddy Creek East Tributary | At the Guilford/Randolph County boundary | +814 | Guilford County (Unincorporated Areas), City of High Point.
| Approximately 1,000 feet upstream of Baker Road | +855
Tributary 2 | At the High Point ETJ/Archdale City boundary | +789 | Guilford County (Unincorporated Areas), City of High Point.
| At the High Point ETJ/Archdale City boundary | +799
Tributary 4 | At the Guilford/Randolph County boundary | +771 | Guilford County (Unincorporated Areas), City of High Point.
| Approximately 1,500 feet upstream of Liberty Road | +826
Tributary 5 | At the High Point ETJ/Archdale City boundary | +778 | Guilford County (Unincorporated Areas), City of High Point.
| Approximately 550 feet upstream of Liberty Road | +814
Tributary 6 | At the High Point ETJ/Archdale City boundary | +777 | City of High Point.
| Approximately 1,250 feet upstream of Liberty Road | +816
North Buffalo Creek (Stream No. 66) | Approximately 50 feet downstream of Rankin Mill Road | +697 | Guilford County (Unincorporated Areas), City of Greensboro.
| Approximately 90 feet upstream of South Holden Road | +816
North Buffalo Creek Tributary 1 | At the confluence with Jordan Branch | +747 | City of Greensboro.
| Approximately 700 feet upstream of Allyson Avenue | +779
Tributary 2 | At the confluence with Muddy Creek | +718 | City of Greensboro.
| Approximately 0.4 mile upstream of Woodmore Drive | +750
Tributary 3 | At Briarcliff Road | +744 | City of Greensboro.
| Approximately 0.5 mile upstream of the confluence of North Buffalo Creek | +756
Tributary 4 | At the confluence with North Buffalo Creek | +750 | City of Greensboro.
| Approximately 200 feet upstream of South Aycock Street | +769
Tributary 5 | Approximately 950 feet upstream of the confluence with North Buffalo Creek Tributary A | +775 | City of Greensboro.
| Approximately 75 feet upstream of Forest Hill Drive | +843
Tributary 6 | At the confluence with Lake Hamilton | +800 | Guilford County (Unincorporated Areas).
| Approximately 100 feet upstream of Waycross Drive | +823
Tributary A | At the confluence with North Buffalo Creek | +760 | Guilford County (Unincorporated Areas), City of Greensboro.
| Approximately 0.4 mile upstream of Joseph M. Bryan Boulevard | +806
North Little Alamance Creek Tributary 6 | Approximately 700 feet upstream of the confluence with North Little Alamance Creek | +627 | Guilford County (Unincorporated Areas).
| Approximately 1,900 feet upstream of U.S. 70 | +649
North Prong Stinking Quarter Creek (Stream No. 88) | At the Alamance/Guilford County boundary | +589 | Guilford County (Unincorporated Areas).
| Approximately 700 feet upstream of Liberty Road | +735
North Prong Stinking Quarter Creek Tributary | At the confluence with North Prong Stinking Quarter Creek | +637 | Guilford County (Unincorporated Areas).
| Approximately 250 feet upstream of Coble Church Road | +667
Payne Creek | At the confluence of Payne Creek Tributary 2 | +826 | City of High Point.
| Approximately 130 feet upstream of Council Street | +858
Payne Creek Tributary 1 (Stream No. 99) | At State Route 68 | +826 | City of High Point.
| Approximately 170 feet upstream of West Rotary Drive | +868
Tributary 1A (Stream No. 97) | Approximately 100 feet upstream of State Route 68 | +822 | City of High Point.
| Approximately 800 feet upstream of Carr Street | +863
Tributary 1B | Approximately 50 feet upstream of the confluence with Payne Creek Tributary 1 (Stream No. 99) | +807 | City of High Point.
| Approximately 0.2 mile upstream of the confluence with Payne Creek | +834
Tributary 1C | Approximately 200 feet upstream of the confluence with Payne Creek Tributary 1 (Stream No. 99) | +810 | City of High Point.
| Approximately 1,400 feet upstream of the confluence with Payne Creek Tributary 1 (Stream No. 99) | +839
Tributary 2 | At the confluence with Payne Creek | +826 | City of High Point.
| Approximately 460 feet upstream of North Rotary Drive | +868
Parks Creek | Approximately 0.4 mile downstream of the Alamance/Guilford County boundary | +633 | Guilford County (Unincorporated Areas).
| Approximately 1,000 feet upstream of the Alamance/Guilford County boundary | +656
Philadelphia Lake | At the confluence with North Buffalo Creek | +728 | City of Greensboro.
| Approximately 1,100 feet upstream of West Cone Boulevard | +810
Polecat Creek Tributary 2 | Approximately 350 feet upstream of the confluence with Polecat Creek (Stream No. 42) | +715 | Guilford County (Unincorporated Areas), Town of Pleasant Garden.
| Approximately 2.0 miles upstream of the confluence with Polecat Creek (Stream No. 42) | +745
Tributary 3 | At the confluence with Polecat Creek Tributary 2 | +718 | Guilford County (Unincorporated Areas), Town of Pleasant Garden.
| Approximately 1.7 miles upstream of the confluence with Polecat Creek Tributary 2 | +780
Reedy Fork Tributary 1 | Approximately 1,200 feet upstream of the confluence with Reedy Fork Creek | +626 | Guilford County (Unincorporated Areas).
| Approximately 1,100 feet upstream of Turner Smith Road | +728
Tributary 2 | Approximately 1,100 feet upstream of the confluence with Reedy Fork Creek | +640 | Guilford County (Unincorporated Areas).
| Approximately 350 feet upstream of Middlestream Road | +743
Tributary 3 | At the confluence with Reedy Fork Tributary 2 | +686 | Guilford County (Unincorporated Areas).
| Approximately 0.8 mile upstream of Turner Smith Road | +715
Tributary 4 | Approximately 1,000 feet upstream of the confluence with Reedy Fork | +620 | Guilford County (Unincorporated Areas).
| Approximately 0.6 mile upstream of Busick Quarry Road | +636
Tributary 7 | At the upstream side of Brookbank Road | +779 | City of Summerfield.
| Approximately 1.1 miles upstream of Brookbank Road | +795
Tributary 8 | Approximately 1,000 feet upstream of the confluence with Reedy Fork Creek | +633 | Guilford County (Unincorporated Areas).
| Approximately 0.9 mile upstream of the confluence with Reedy Fork Creek | +651
Tributary 9 | At the upstream side of Reedy Fork Parkway | +688 | Guilford County (Unincorporated Areas), City of Greensboro.
| Approximately 0.5 mile upstream of U.S. Route 29 | +702
Tributary 10 | Approximately 0.5 mile upstream of the confluence with Reedy Fork Creek | +745 | Guilford County (Unincorporated Areas), City of Greensboro.
| Approximately 1.0 mile upstream of the confluence with Reedy Fork Creek | +752
Rich Fork Tributary 1 (Stream No. 92) | Approximately 100 feet upstream of the confluence of Rich Fork Tributary 1B (Stream No. 93) | +791 | City of High Point.
| Approximately 950 feet upstream of Greenwood Drive | +846
Tributary 1 B1 | Approximately 100 feet upstream of the confluence with Rich Fork Tributary 1B (Stream No. 93) | +822 | City of High Point.
| Approximately 375 feet upstream of Idol Street | +858
Tributary 1A | Approximately 100 feet downstream of Carolyndon Drive | +781 | City of High Point.
| Approximately 600 feet upstream of Westover Drive | +853
Tributary 2 | At the Guilford/Davidson County boundary | +807 | City of High Point.
| Approximately 0.3 mile upstream of the Guilford/Davidson County boundary | +827
Tributary 1B (Stream No. 93) | Approximately 100 feet upstream of State Route 68 | +833 | City of High Point.
| Approximately 400 feet upstream of Pinehurst Drive | +833
Richland Creek (Stream No. 59) | Approximately 0.5 mile upstream of Church Street | +721 | Guilford County (Unincorporated Areas), City of Greensboro.
| Approximately 900 feet upstream of Guilford Courthouse National Park LP | +805
(Stream No. 30) | Approximately 200 feet upstream of the confluence of Stream No. 31 | +837 | City of High Point.
| Approximately 1,350 feet upstream of West Green Drive | +877
Richland Creek Tributary 1 | At the confluence with Richland Creek (Stream No. 59) | +750 | City of Greensboro.
| Approximately 1,500 feet upstream of Pheasant Run Drive | +810
Tributary 2 | Approximately 250 feet upstream of the confluence with Richland Creek (Stream No. 30) | +713 | Guilford County (Unincorporated Areas), City of High Point.
| Approximately 0.6 mile upstream of the confluence with Richland Creek (Stream No. 30) | +809
Tributary 3 | Approximately 625 feet upstream of the confluence with Richland Creek | +724 | Guilford County (Unincorporated Areas), City of High Point.
| Approximately 75 feet upstream of Lawndale Avenue | +828
Tributary 4 | At the confluence with Richland Creek Tributary 3 | +753 | Guilford County (Unincorporated Areas), City of High Point.
| Approximately 1,500 feet upstream of Central Avenue | +829
Tributary 5 | At the confluence with Richland Creek Tributary 3 | +745 | Guilford County (Unincorporated Areas), City of High Point.
| Approximately 1,700 feet upstream of I-85 | +803
Tributary 6 | Approximately 350 feet upstream of the confluence with Richland Creek (Stream No. 30) | +752 | City of High Point.
| Approximately 1,700 feet upstream of I-85 | +783
Tributary 9 | At the confluence with Richland Creek (Stream No. 30) | +774 | City of High Point.
| Approximately 2,100 feet upstream of the confluence with Richland Creek (Stream No. 30) | +807
Tributary 10 | Approximately 50 feet downstream of I-85 (BUS) | +785 | City of High Point.
| Approximately 400 feet upstream of East Springfield Road | +828
Tributary 11 | At the confluence with Richland Creek Tributary 10 | +805 | City of High Point.
| Approximately 650 feet upstream of Model Farm Road | +837
Tributary 12 | At Nathan Hunt Drive | +793 | City of High Point.
| Approximately 100 feet upstream of Tate Street | +863
Tributary 14 | At I-85 (BUS) | +809 | City of High Point.
| Approximately 400 feet upstream of Fraley Road | +863
Tributary 15 | Approximately 50 feet upstream of Surrett Drive | +828 | City of High Point.
| Approximately 100 feet upstream of South Elm Street | +857
Tributary 17 | At the confluence with Richland Creek (Stream No. 30) | +849 | City of High Point.
| Approximately 550 feet upstream of Lincoln Drive | +869
Rock Creek Tributary (Stream No. 81) | At Sedalia Road | +640 | Guilford County (Unincorporated Areas), Town of Sedalia.
| Approximately 1,900 feet upstream of Sedalia Road | +648
Rock Creek Tributary 3 | Approximately 750 feet upstream of the confluence with Rock Creek (Stream No. 80) | +632 | Guilford County (Unincorporated Areas).
| Approximately 1.1 miles upstream of the confluence with Rock Creek (Stream No. 80) | +652
Rose Creek | At the Guilford/Rockingham County boundary | +679 | Guilford County (Unincorporated Areas).
| Approximately 1,056 feet upstream of Chrismon Road | +694
Ryan Creek | At the confluence with South Buffalo Creek (Stream No. 67) | +735 | Guilford County (Unincorporated Areas), City of Greensboro.
| Approximately 350 feet upstream of U.S. Route 220 | +799
Sandy Ridge Tributary | At the downstream side of NC 68 | +800 | Guilford County (Unincorporated Areas).
| At Gilmore Dairy Road | +832
Smith Branch | Approximately 1,700 feet upstream of the confluence with Reedy Fork Creek | +675 | Guilford County (Unincorporated Areas).
| Approximately 1.7 miles upstream of Turner Smith Road | +758
South Buffalo Creek (Stream No. 67) | Approximately 350 feet upstream of East Lee Street | +715 | Guilford County (Unincorporated Areas), City of Greensboro.
| Approximately 1,100 feet upstream of Guilford College Road | +876
South Buffalo Creek Tributary 1 | At the confluence with South Buffalo Creek | +807 | City of Greensboro.
| Approximately 300 feet upstream of Pennoak Road | +837
Tributary 2 | At the confluence with South Buffalo Creek | +792 | City of Greensboro.
| Approximately 1,050 feet upstream of Bernav Avenue | +855
Tributary 3 | Approximately 600 feet upstream of the confluence with South Buffalo Creek | +745 | City of Greensboro.
| Approximately 1,500 feet upstream of Oak Street | +834
Tributary 4 | At the confluence with South Buffalo Creek | +713 | Guilford County (Unincorporated Areas), City of Greensboro.
| Approximately 1,250 feet upstream of South English Street | +770
Tributary 5 | At the confluence with South Buffalo Creek | +719 | City of Greensboro.
| Approximately 1,100 feet upstream of South English Street | +773
Tributary 6 | At Bothwell Street | +720 | Guilford County (Unincorporated Areas), City of Greensboro.
| Approximately 350 feet upstream of Barksdale Drive | +737
Tributary 7 | At the confluence with South Buffalo Creek | +726 | City of Greensboro.
| Approximately 900 feet upstream of Tuscaloosa Street | +757
Tributary 8 | At the confluence with South Buffalo Creek | +728 | City of Greensboro.
| Approximately 800 feet upstream of South Benbow Road | +739
Tributary 9 | At the confluence with South Buffalo Creek | +735 | City of Greensboro.
| Approximately 50 feet downstream of East Vandalia Road | +746
Tributary 10 | Approximately 180 feet upstream of the confluence with Ryan Creek | +736 | City of Greensboro.
| Approximately 50 feet downstream of Webster Road | +807
Tributary 11 | Approximately 100 feet upstream of the confluence with Ryan Creek | +746 | City of Greensboro.
| Approximately 750 feet upstream of Pinecraft Road | +806
Tributary A | At the confluence with South Buffalo Creek | +807 | Guilford County (Unincorporated Areas), City of Greensboro.
| Approximately 0.7 mile upstream of Tower Road | +902
Tributary B | At the confluence with South Buffalo Creek Tributary A | +809 | City of Greensboro.
| Approximately 550 feet upstream of Richland Street | +886
South Prong Stinking Quarter Creek | At the confluence with Stinking Quarter Creek | +575 | Guilford County (Unincorporated Areas).
| At the Guilford/Randolph County boundary | +625
Tributary 1 | At the confluence with South Prong Stinking Quarter Creek | +575 | Guilford County (Unincorporated Areas).
| Approximately 1.1 miles upstream of Smithwood Road | +676
Stinking Quarter Creek | At the Alamance/Guilford County boundary | +556 | Guilford County (Unincorporated Areas).
| At the confluence with South Prong Stinking Quarter Creek Tributary 1 and South Prong Stinking Quarter Creek | +575
Tributary 2 | At the confluence with Stinking Quarter Creek | +559 | Guilford County (Unincorporated Areas).
| Approximately 0.7 mile upstream of the confluence with Stinking Quarter Creek | +577
Stream No. 13 | Approximately 800 feet upstream of East Hartley Drive | +817 | City of High Point.
| Approximately 0.6 mile upstream of SR 68 | +881
Tributary 1 | Approximately 400 feet upstream of the confluence with Stream No. 13 | +806 | City of High Point.
| Approximately 2,400 feet upstream of the confluence with Stream No. 13 | +854
Tributary 2 | Approximately 300 feet upstream of the confluence with Stream No. 13 | +807 | City of High Point.
| Approximately 1,700 feet upstream of the confluence with Stream No. 13 | +825
Tributary 3 | Approximately 250 feet upstream of the confluence with Stream No. 13 | +817 | City of High Point.
| Approximately 400 feet upstream of Pine Valley Road | +856
Tributary 4 | At the confluence with Stream No. 13 | +818 | City of High Point.
| Approximately 1,650 feet upstream of SR 68 | +893
Tributary 5 | At the confluence with Stream No. 13 | +818 | City of High Point.
| Approximately 1,150 feet upstream of SR 68 | +866
Stream No. 27 | Approximately 50 feet upstream of Rosecrest Drive | +812 | City of High Point.
| Approximately 1,850 feet upstream of Enterprise Drive | +852
Tributary 2 | Approximately 350 feet upstream of the confluence with Stream No. 27 | +786 | City of High Point.
| Approximately 1,700 feet upstream of Alpine Drive | +833
Stream No. 31 | Approximately 80 feet upstream of Vail Avenue | +854 | City of High Point.
| Approximately 300 feet upstream of Taylor Avenue | +869
Stream No. 33 | Approximately 150 feet upstream of Wise Avenue | +813 | City of High Point.
| Approximately 500 feet upstream of West Russell Avenue | +850
Tributary 2 | At the confluence with Stream No. 33 | +813 | City of High Point.
| Approximately 400 feet upstream of East Green Drive | +841
Stream No. 34 | Approximately 450 feet downstream of Habersham Road | +817 | City of High Point.
| Approximately 1,850 feet downstream of Pendleton Street | +851
Stream No. 34 Tributary | Approximately 100 feet upstream of the confluence with Stream No. 34 | +753 | City of High Point.
| Approximately 1,700 feet upstream of Triangle Lake Road | +828
Stream No. 34A | At the upstream side of Jackson Lake Road | +745 | Guilford County (Unincorporated Areas), City of High Point.
| Approximately 200 feet upstream of Baker Road | +827
Tributary 1 | At the confluence with Stream No. 34A | +752 | Guilford County (Unincorporated Areas), City of High Point.
| Approximately 1,650 feet upstream of the confluence with Stream No. 34A | +782
Tributary 2 | At the confluence with Stream No. 34A | +753 | Guilford County (Unincorporated Areas), City of High Point.
| Approximately 1,650 feet upstream of the confluence with Stream No. 34A | +793
Tributary 3 | At the confluence with Stream No. 34A | +769 | Guilford County (Unincorporated Areas), City of High Point.
| Approximately 0.5 mile upstream of the confluence with Stream No. 34A | +820
Tributary 4 | At the confluence with Stream No. 34A Tributary 3 | +775 | City of High Point.
| Approximately 1,700 feet upstream of the confluence with Stream No. 34A Tributary 3 | +825 |
Tributary 6 | At the confluence with Stream No. 34A | +794 | City of High Point.
| Approximately 450 feet upstream of North Hall Street | +818 |
Tributary 7 | At the confluence with Stream No. 34A | +817 | City of High Point.
| Approximately 1,350 feet upstream of Baker Road | +864 |
Tickle Creek | At the Alamance/Guilford County boundary | +647 | Guilford County (Unincorporated Areas).
| Approximately 1.0 mile upstream of the Alamance/Guilford County boundary | +659 |
Travis Creek | At the Alamance/Guilford County boundary | +618 | Guilford County (Unincorporated Areas).
| Approximately 950 feet upstream of SR 61/Frieden Church Road | +670 |
Tributary A to Travis Creek | At the Alamance/Guilford County boundary | +623 | Guilford County (Unincorporated Areas).
| Approximately 600 feet upstream of Howerton Road | +674 |
Tributary to Travis Creek | At the Alamance/Guilford County boundary | +632 | Guilford County (Unincorporated Areas).
| Approximately 0.6 mile upstream from the Alamance/Guilford County boundary | +660 |
Tributary to West Fork Deep River | Approximately 1,550 feet upstream of the confluence with West Fork Deep River (Stream No. 2) | +816 | Guilford County (Unincorporated Areas), City of High Point.
| Approximately 0.6 mile upstream of the confluence with West Fork Deep River (Stream No. 2) | +831 |
Twin Lakes Tributary | At the confluence with South Buffalo Creek | +753 | City of Greensboro.
| Approximately 100 feet downstream of Merryweather Road | +827 |
Tributary 1 | At the confluence with Twin Lakes Tributary | +797 | City of Greensboro.
| Approximately 100 feet downstream of Merritt Drive | +828 |
Deep River Tributary 26 | Approximately 800 feet downstream of the Guilford/Randolph County boundary | +701 | Guilford County (Unincorporated Areas).
| Approximately 0.8 mile upstream of the Guilford/Randolph County boundary | +722 |
Polecat Creek Tributary 4 | At the Guilford/Randolph County boundary | +695 | Guilford County (Unincorporated Areas).
| Approximately 1,400 feet upstream of SR 62 | +712 |
Unnamed Tributary to West Fork Deep River | Approximately 750 feet upstream of the confluence with West Fork Deep River Tributary 1 | +832 | Guilford County (Unincorporated Areas).
| Approximately 200 feet upstream of Adkins Road | +855 |
West Fork Deep River (Stream No. 2) | Approximately 1,750 feet upstream of the confluence with West Fork Deep River Tributary 1 (Stream No. 3) | +833 | Guilford County (Unincorporated Areas).
| At the Guilford/Forsyth County boundary | +862 |
# Depth in feet above ground.
* National Geodetic Vertical Datum.
+ North American Vertical Datum.
ADDRESSES
City of Greensboro
Maps are available for inspection at Greensboro Stormwater Management Division, 2602 South Elm Eugene Street, Greensboro, North Carolina.
City of High Point
Maps are available for inspection at the High Point City Hall, 211 South Hamilton Street, High Point, North Carolina.
Town of Jamestown
Maps are available for inspection at the Jamestown Town Hall, 301 East Main Street, Jamestown, North Carolina.
Town of Pleasant Garden
Maps are available for inspection at the Town of Pleasant Garden Kirkman Municipal Building, 4920 Alliance Church Road, Pleasant Garden, North Carolina.
Town of Sedalia
Maps are available for inspection at the Sedalia Town Hall, 6121 Burlington Road, Gibsonville, North Carolina.
Town of Stokesdale
Maps available for inspection at the Stokesdale Town Hall, 8416 U.S. Highway 158, Stokesdale, North Carolina.
City of Summerfield
Maps are available for inspection at the Summerfield Town Planning Office, 4117 Oak Ridge Road (Highway 150), Summerfield, North Carolina.
Guilford County (Unincorporated Areas)
Maps are available for inspection at the Guilford County Planning and Development Office, 201 South Eugene Street, Greensboro, North Carolina.

Catalog of Federal Domestic Assistance No. 83.100, “Flood Insurance.”

Dated: January 12, 2007.
David I. Maurstad,
Director, Mitigation Division, Federal Emergency Management Agency, Department of Homeland Security.

[FR Doc. E7-886 Filed 1-22-07; 8:45 am]

BILLING CODE 9110-01-P